DEPARTMENT OF HOMELAND SECURITY

Transportation Security Administration

[Docket No. TSA-2006-24191]

Intent To Request Extension From OMB of One Current Public Collection of Information: Transportation Worker Identification Credential (TWIC®) Program

AGENCY: Transportation Security Administration, DHS.

ACTION: 60-Day notice.

SUMMARY: The Transportation Security Administration (TSA) invites public comment on one currently approved Information Collection Request (ICR), Office of Management and Budget (OMB) control number 1652-0047, abstracted below that we will submit to OMB for an extension, in compliance with the Paperwork Reduction Act (PRA). The ICR describes the nature of the information collection and its expected burden. The collection involves the submission of biographic and biometric information that TSA uses to verify identity and conduct a security threat assessment (STA) for the TWIC® Program, and a customer satisfaction survey.

DATES: Send your comments by August 31, 2020.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0047; Transportation Worker Identification Credential (TWIC®) Program. The Transportation Worker Identification Credential (TWIC®) program is a DHS program administered jointly by TSA and the U.S. Coast Guard (USCG) to mitigate threats and vulnerabilities in the national maritime transportation system. The program implements authorities set forth in the Aviation and Transportation Security Act (ATSA) (Pub. L. 107-71; Nov. 19, 2002; sec. 106), the Maritime Transportation Security Act of 2002 (MTSA) (Pub. L. 107-295; Nov. 25, 2002; sec. 102), and the Safe, Accountable, Flexible, Efficient Transportation Equity Act—A Legacy for Users (SAFETEA-LU) (Pub. L. 109-59; Aug. 10, 2005; sec. 7105), codified at 49 U.S.C. 5103a(g). TSA and the USCG implemented these requirements through a rulemaking codified at 33 CFR parts 105 and 106, and 49 CFR part 1572.

TWIC® is a common credential for all personnel requiring unescorted access to secure areas of facilities and vessels regulated pursuant to requirements in the Maritime Transportation Security Act (MTSA) and certain mariners holding USCG credentials. Individuals in the field of transportation who are required to undergo an STA in certain other programs, such as the Chemical Facility Anti-Terrorism (CFATS) program, may also apply for a TWIC® and the associated security threat assessment to satisfy CFATS requirements.

Before issuing an individual a TWIC®, TSA performs an STA that includes checks of criminal history, immigration, and terrorism records. To conduct the STA, TSA must collect the following:

• Certain biographic information, including name, address, date of birth and other information;

• Fingerprints and photographs of applicants; and

• A $125.25 fee from applicants to cover the cost of the STA, as required by law (see 6 U.S.C. 469).

TSA collects this information from applicants during an optional pre-enrollment step or during the enrollment session at an enrollment center.

If TSA determines that the applicant is eligible to receive a TWIC® as a result of the STA, TSA issues and sends an activated TWIC® card to the address provided by the applicant or notifies the applicant that their TWIC® is ready for pick up and activation at an enrollment center. Once activated, this credential can be used for facility and vessel access control requirements to include card authentication, card validation, and identity verification. In the event of a lost, damaged or stolen credential, the cardholder must notify TSA immediately and may request a replacement card online, via telephone or, from an enrollment center for a $60.00 fee.

TSA may also use the information to determine a TWIC® holder's eligibility to participate in TSA's expedited screening program for air travel, TSA PreCheck™ Application Program. Beginning April 2020, active (unexpired) TWIC® holders who meet the eligibility requirements for TSA PreCheck may use their TWIC® card's Credential Identification Number in the appropriate known traveler number field of an airline reservation to obtain expedited screening eligibility.

TSA invites all TWIC® applicants to complete an optional survey to gather information on the applicants' overall customer satisfaction with the enrollment process. This optional survey is administered by a Trusted Agent (a representative of the TWIC® enrollment service provider, who performs enrollment functions) during the process to activate the TWIC®. These surveys are collected at each enrollment center and compiled to produce reports that are reviewed by the contractor and TSA.

TSA estimates that there will be approximately 541,514 respondents to this TWIC® information collection. The current estimated annualized hour burden is 681,785 hours.

Dated: June 25, 2020.
Christina A. Walsh,
TSA Paperwork Reduction Act Officer, Information Technology.

[FR Doc. 2020-14226 Filed 7-1-20; 8:45 am]

BILLING CODE 9110-05-P